DEPARTMENT OF THE INTERIOR

Fish and Wildlife Service

50 CFR Part 17

Endangered and Threatened Wildlife and Plants; Address Change for Submission of Reports

AGENCY: Fish and Wildlife Service, Interior.

ACTION: Final rule.

SUMMARY: We are updating the address for the submission of reports on specimens of endangered species taken in defense of self or others, or in the course of official duty by employees of Federal or State land management or conservation agencies.

DATES: This rule is effective on January 22, 2003.

FOR FURTHER INFORMATION CONTACT: Richard McDonald, Chief, Branch of Investigations, Office of Law Enforcement, U.S. Fish and Wildlife Service, telephone (703) 358-1949, fax (703) 358-1947.

SUPPLEMENTARY INFORMATION:

Background

Regulations contained in title 50 of the Code of Federal Regulations, Part 17.21, provide for the take of endangered species in defense of self or others, or in the course of official duty, by employees of Federal or State land management or conservation agencies (40 FR 44412). These regulations state that when take of endangered species occurs under any of the above circumstances, a report must be submitted to our Office of Law Enforcement within five days. The address for the submission of these reports has changed since the publication of these regulations on September 26, 1975. This rule provides the current address for the submission of these reports.

Required Determinations

We have reviewed this rule under the following statutes and Executive Orders that govern the rulemaking process: Executive Order 12866 (Regulatory Planning and Review); Regulatory Flexibility Act (5 U.S.C. 601 et seq.); Small Business Regulatory Enforcement Fairness Act (5 U.S.C. 804(2); Unfunded Mandates Reform Act (2 U.S.C. 1501 et seq.); Executive Order 12630 (Takings); Executive Order 13132 (Federalism); Executive Order 12988 (Civil Justice Reform); Paperwork Reduction Act of 1995 (44 U.S.C. 3501 et seq.); National Environmental Policy Act; Executive Order 13175 (Tribal Consultation) and 512 DM 2 (Government-to-Government Relationship With Tribes); and Executive Order 13211 (Energy Supply, Distribution, or Use). We have determined that this rule does not trigger any of the procedural requirements of these Executive Orders or statutes since this rule modifies only the address for the submission of reports on the take of endangered species under certain circumstances.

We have determined that the public notice and comment provisions of the Administrative Procedure Act (APA) do not apply to this rule because the rule is only dealing with matters of agency organization, procedure, or practice (5 U.S.C. 553(b)(3)(A).

Under the APA, our normal practice is to publish rules with a 30-day delay in effective date. But in this case, we are using the “good cause” exemption under 5 U.S.C. 553 (d)(3) to make this rule effective upon publication because it modifies only the address for the submission of reports on the take of endangered species under certain circumstances.

List of Subjects in 50 CFR Part 17

Endangered and threatened species, Exports, Imports, Reporting and recordkeeping requirements, Transportation.

Regulation Promulgation

Accordingly, we amend part 17, subchapter B of Chapter I, title 50 of the Code of Federal Regulations as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.21, revise paragraph (c)(4) to read as follows:

§ 17.21 Prohibitions.

* * * * *

(c) * * *

(4) Any taking under paragraphs (c)(2) and (3) of this section must be reported in writing to the U.S. Fish and Wildlife Service, Office of Law Enforcement, 4401 North Fairfax Drive, LE-3000, Arlington, VA 22203, within five days. The specimen may only be retained, disposed of, or salvaged under directions from the Office of Law Enforcement.

* * * * *

Dated: December 16, 2002.
Craig Manson,
Assistant Secretary—Fish and Wildlife and Parks.

[FR Doc. 03-1414 Filed 1-21-03; 8:45 am]

BILLING CODE 4310-55-P